ENVIRONMENTAL PROTECTION AGENCY

40 CFR Part 62

[EPA-R07-OAR-2018-0005; FRL-9977-10—Region 7]

Approval of State Plans for Designated Facilities and Pollutants; Missouri; Hospital, Medical, and Infectious Waste Incineration (HMIWI) Units

AGENCY: Environmental Protection Agency (EPA).

ACTION: Final rule.

SUMMARY: The Environmental Protection Agency (EPA) is approving revisions to the Missouri state plan for designated facilities and pollutants developed under sections 111(d) and 129 of the Clean Air Act (CAA) that were requested by Missouri Department of Natural Resources (MDNR) in two separate submissions made on August 8, 2011 and on July 3, 2014. This final action will amend the state regulations referenced in the state's 111(d) plan applicable to existing Hospital, Medical, Infectious Waste Incinerators (HMIWI) operating in the state of Missouri. The state rule revisions we are approving with this action update HMIWI regulatory requirements for emission limits for waste management plans, training, compliance and performance testing, monitoring, and reporting and recordkeeping to be consistent with updates to Federal rules. These regulatory revisions we are approving into Missouri's state plan do not impact air quality. EPA's approval of this revision is being performed in accordance with the requirements of CAA section 111(d) as further described in the Technical Support Document that is included in this docket.

DATES: This rule will be effective May 24, 2018.

FOR FURTHER INFORMATION CONTACT: Larry Gonzalez, Environmental Protection Agency, Air Planning and Development Branch, 11201 Renner Boulevard, Lenexa, Kansas 66219 at (913) 551-7041 or by email at gonzalez.larry@epa.gov.

SUPPLEMENTARY INFORMATION: Throughout this document “we,” “us,” or “our” refer to EPA. This section provides additional information by addressing the following:

I. What is being addressed in this document?

II. What action is EPA taking?

III. Statutory and Executive Order Reviews

I. What is being addressed in this document?

EPA is approving revisions to the regulations cited in Missouri's state plan for HMIWI facilities and pollutants developed under sections 111(d) and 129 of the CAA that were requested by MDNR in two separate submissions made on August 8, 2011, and on July 3, 2014. This regulatory action is a revision to the state's regulatory requirements for existing facilities and not new sources. The amended state rule limits emissions of metals, particulate matter, acid gases, organic compounds, carbon monoxide, and opacity. These rule revisions are necessary to ensure that the state regulations applicable to HMIWI are consistent with updates to Federal rules for HMIWI.

The August 8, 2011, submittal updates requirements for emission limits, waste management plans, training, compliance and performance testing, monitoring, and reporting and recordkeeping requirements that apply to existing HMIWI facilities. Additionally, the state's regulatory revisions also include the movement of definitions, previously located in the state rule that applies specifically to HMIWI (10 CSR 10-6.200) to a new regulatory section that contains definitions applicable to air rules in general (10 CSR 10-6.020).

In the July 3, 2014 request, Missouri is seeking approval of additional revisions made to 10 CSR 10-6.200 that revise the regulations to follow the revised Federal standards. In addition to updating the emission standard tables, the revisions remove language from the compliance and performance testing provisions applicable to HMIWI that provided an exemption to compliance with the emission limits during startup, shutdown and malfunction conditions. Additionally, the state revised the hierarchy of definitions to clearly state that the applicable definitions in the Code of Federal Regulations take precedence over those in 10 CSR 10-6.020, and revised the test methods references in the state rule to match how the test methods are referred to in the Federal HMIWI regulations.

This final action addresses both requests to amend the state plan by amending the underlying regulation referenced in the 111(d) plan applicable to HMIWI. For additional information on EPA's rational for approval, see EPA's proposal which contains background information for this action (83 FR 5231, February 6, 2018).

II. What action is EPA taking?

EPA is approving Missouri's August 8, 2011 and July 3, 2014, submittals of its amended 111(d) plan for HMIWI in accordance with our proposed rule dated February 6, 2018 (83 FR 5231), in which we proposed to approve the MDNR request and requested comment regarding our future action. EPA received one comment in response to our proposal which was not related to the proposed rule and therefore a response is not required.

III. Statutory and Executive Order Reviews

Under Executive Order 12866 (58 FR 51735, October 4, 1993), this action is not a “significant regulatory action” and therefore is not subject to review under Executive Orders 12866 and 13563 (76 FR 3821, January 21, 2011). This action is not subject to review under Executive Order 13771 (82 FR 9339, February 2, 2017) regulatory action because SIP approvals are exempted under Executive Order 12866. This action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rulemaking will not have a significant economic impact on a substantial number of small entities under the Regulatory Flexibility Act (5 U.S.C. 601 et seq.). Because this rulemaking would approve pre-existing requirements under state law and does not impose any additional enforceable duty beyond that required by state law, it does not contain any unfunded mandate or significantly or uniquely affect small governments, as described in the Unfunded Mandates Reform Act of 1995 (Pub. L. 104-4).

The SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

This action also does not have Federalism implications because it does not have substantial direct effects on the States, on the relationship between the national government and the States, or on the distribution of power and responsibilities among the various levels of government, as specified in Executive Order 13132 (64 FR 43255, August 10, 1999). Thus Executive Order 13132 does not apply to this action. This action merely approves a state rule implementing a Federal standard, and does not alter the relationship or the distribution of power and responsibilities established in the CAA. This rulemaking also is not subject to Executive Order 13045, “Protection of Children from Environmental Health Risks and Safety Risks” (62 FR 19885, April 23, 1997) because it approves a state rule implementing a Federal standard.

In reviewing SIP submissions, EPA's role is to approve state choices, provided that they meet the criteria of the CAA. In this context, in the absence of a prior existing requirement for the State to use voluntary consensus standards (VCS), EPA has no authority to disapprove a state submission for failure to use VCS. It would thus be inconsistent with applicable law for EPA when it reviews a state submission, to use VCS in place of a state submission that otherwise satisfies the provisions of the CAA. Thus, the requirements of section 12(d) of the National Technology Transfer and Advancement Act of 1995 (15 U.S.C. 272 note) do not apply. This action does not impose an information collection burden under the provisions of the Paperwork Reduction Act of 1995 (44 U.S.C. 3501 et seq.). Burden is defined at 5 CFR 1320.3(b).

List of Subjects in 40 CFR Part 62

Environmental protection, Administrative practice and procedure, Air pollution control, Hospital, medical, and infectious incineration units, Intergovernmental relations, Reporting and recordkeeping requirements.

Dated: April 16, 2018.
Karen A. Flournoy,
Acting Regional Administrator, Region 7.

For the reasons stated in the preamble, EPA amends 40 CFR part 62 as set forth below:

PART 62—APPROVAL AND PROMULGATION OF STATE PLANS FOR DESIGNATED FACILITIES AND POLLUTANTS

1. The authority citation for part 62 continues to read as follows:

Authority: 42 U.S.C. 7401 et seq.

Subpart AA—Missouri

2. Amend § 62.6358 by adding paragraph (e) to read as follows:

§ 62.6358 Identification of plan.

* * * * *

(e) Amended plan. Submitted by the Missouri Department of Natural Resources on July 3, 2014 and August 8, 2011. The effective date of the amended plan is May 24, 2018.

[FR Doc. 2018-08536 Filed 4-23-18; 8:45 am]

BILLING CODE 6560-50-P